NATIONAL SCIENCE FOUNDATION

Sunshine Act Meeting

The National Science Board's ad hoc Committee on Nominating NSB Class of 2022-2028 (NOMS), hereby gives notice of the scheduling of a teleconference for the transaction of National Science Board business, as follows:

TIME AND DATE: Thursday, June 17, 2021, from 11:30 a.m.-12:00 p.m. EDT.

PLACE: This meeting will be held by teleconference through the National Science Foundation, 2415 Eisenhower Avenue, Alexandria, VA 22314.

STATUS: Closed.

MATTERS TO BE CONSIDERED: The agenda of the teleconference is: To review the master list of NSB Nominees, discuss review and rating guidance, and receive reviewing assignments.

CONTACT PERSON FOR MORE INFORMATION: Point of contact for this meeting is: Chris Blair, cblair@nsf.gov, 703/292-7000. Meeting information and updates may be found at http://www.nsf.gov/nsb/meetings/notices.jsp#sunshine. Please refer to the National Science Board website www.nsf.gov/nsb for general information.

Chris Blair,
Executive Assistant to the National Science Board Office.

[FR Doc. 2021-12529 Filed 6-11-21; 4:15 pm]

BILLING CODE 7555-01-P